DEPARTMENT OF THE INTERIOR

Fish and Wildlife Service

[FWS-R4-R-2015-N125; FXRS1263040000-156-FF04R08000]

Proposed Information Collection; National Wildlife Refuge Visitor Check-In Permit and Use Report

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on December 31, 2015. We may not conduct or sponsor and a person is not required to respond to a collection of information unless it displays a currently valid OMB control number.

DATES: To ensure that we are able to consider your comments on this IC, we must receive them by August 24, 2015.

ADDRESSES: Send your comments on the IC to the Information Collection Clearance Officer, U.S. Fish and Wildlife Service, MS BPHC, 5275 Leesburg Pike, Falls Church, VA 22041-3803 (mail); or hope_grey@fws.gov (email). Please include “1018-0153” in the subject line of your comments.

FOR FURTHER INFORMATION CONTACT: To request additional information about this IC, contact Hope Grey at hope_grey@fws.gov (email) or 703-358-2482 (telephone).

SUPPLEMENTARY INFORMATION:

I. Abstract. The National Wildlife Refuge System Administration Act of 1966 (16 U.S.C. 668dd-668ee), as amended by the National Wildlife Refuge System Improvement Act of 1997, and the Refuge Recreation Act of 1962 (16 U.S.C. 460k-460k-4) govern the administration and uses of national wildlife refuges and wetland management districts. We are authorized to allow public uses on lands of the National Wildlife Refuge System, including hunting, fishing, wildlife observation, wildlife photography, and environmental education and interpretation, and other visitor uses, when we find that the activities are compatible and appropriate with the purpose or purposes for which the refuges were established.

We collect information on hunters and anglers and other visitors to help us protect refuge resources and administer and evaluate the success of visitor programs. Because of high demand and limited resources, we often provide visitor opportunities by permit, based on dates, locations, or type of public use. We may not allow all opportunities on all refuges, and harvest information differs for each refuge. We use FWS Form 3-2405 (Self-Clearing Check-In Permit) to collect this information. Not all refuges will use the form, and some refuges may collect the information in a nonform format. We collect:

• Information on the visitor (name, address, and contact information). We use this information to identify the visitor or driver/passengers of a vehicle while on the refuge. Having this information readily available is critical in a search and rescue situation. We do not maintain or record this information.

• Information on whether or not hunters/anglers were successful (number and type of harvest/caught).

• Purpose of visit (hunting, fishing, wildlife observation, wildlife photography, auto touring, birding, hiking, boating/canoeing, visitor center, special event, environmental education class, volunteering, other recreation).

• Date of visit.

The above information is a vital tool in meeting refuge objectives and maintaining quality visitor experiences. It will help us:

• Administer and monitor visitor programs and facilities on refuges.

• Distribute visitor permits to ensure safety of visitors.

• Ensure a quality visitor experience.

• Minimize resource disturbance, manage healthy game populations, and ensure the protection of fish and wildlife species.

• Assist in Statewide wildlife management and enforcement and develop reliable estimates of the number of all game fish and wildlife.

• Determine facility and program needs and budgets.

II. Data

OMB Control Number: 1018-0153.

Title: National Wildlife Refuge Visitor Check-In Permit and Use Report.

Service Form Number: 3-2405.

Type of Request: Extension of a currently approved collection.

Description of Respondents: Individuals who visit national wildlife refuges.

Respondent's Obligation: Required to obtain or retain a benefit.

Frequency of Collection: On occasion.

Estimated Annual Number of Respondents: 650,000.

Estimated Annual Number of Responses: 650,000.

Estimated Completion Time per Response: 5 minutes.

Estimated Total Annual Burden Hours: 54,167.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: June 17, 2015.
Tina A. Campbell,
Chief, Division of Policy, Performance, and Management Programs, U.S. Fish and Wildlife Service.

[FR Doc. 2015-15329 Filed 6-22-15; 8:45 am]

BILLING CODE 4310-55-P